DEPARTMENT OF THE INTERIOR

Bureau of Land Management

[CACA-47658, CA-670-5101 ER B204)

Notice of Availability of Final Environmental Impact Report/Environmental Impact Statement and Proposed Land Use Plan Amendment for the Proposed Sunrise Powerlink Project

AGENCY: Bureau of Land Management.

ACTION: Notice of Availability.

SUMMARY: In accordance with the National Environmental Policy Act of 1969 (NEPA, 42 U.S.C. 4321 et seq.) and the Federal Land Policy and Management Act of 1976 (FLPMA, 43 U.S.C. 1701 et seq.), the Bureau of Land Management (BLM), together with the California Public Utilities Commission (CPUC), has prepared a Final Environmental Impact Report/Environmental Impact Statement (FEIR/EIS) and Proposed Land Use Plan Amendment for the Sunrise Powerlink Project proposed by San Diego Gas & Electric Company (SDG&E).

DATES: The FEIR/EIS and Proposed Land Use Plan Amendment will be available for review until November 17, 2008 which is 30 calendar days from the date that the Environmental Protection Agency (EPA) published the Notice of Availability in the Federal Register, October 17, 2008 [73 FR 61859]. BLM planning regulations (43 CFR 1610.5-2) state that any person who meets the conditions as described in the regulations may protest the BLM's Proposed RMP Amendment. A person who meets the conditions and files a protest must file the protest within 30 days of the date that the Environmental Protection Agency publishes its notice in the Federal Register. Instructions for filing protests with the BLM are included in the SUPPLEMENTARY INFORMATION section of this notice and in the Executive Summary of the FEIR/EIS.

ADDRESSES: A copy of the FEIR/EIS/Proposed Plan Amendment will be available electronically at the following Web site: http://www.cpuc.ca.gov/Environment/info/aspen/sunrise/sunrise.htm.

Copies of the document will be available for public inspection at the following locations:

• Bureau of Land Management, California State Office, 2800 Cottage Way, Suite W-1834, Sacramento, CA 95825.

• Bureau of Land Management, El Centro Field Office, 1661 South 4th Street, El Centro, CA 92243.

• Bureau of Land Management, California Desert District, 22835 Calle San Juan De Los Lagos, Moreno Valley, CA 92553.

• Bureau of Land Management, Palm Springs South Coast Field Office, 690 West Garnet Avenue, North Palm Springs, CA 92258-1260.

• Bureau of Land Management, South Coast Project Office, c/o Cleveland National Forest, 10845 Rancho Bernardo Drive, Suite 200, San Diego, CA 92127-2107.

• A list of public library repositories is also available on the project Web site at http://www.cpuc.ca.gov/Environment/info/aspen/sunrise/sunrise.htm.

Electronic (on CD-ROM) or paper copies of the FEIR/EIS may be obtained by contacting the BLM, 1661 South 4th Street, El Centro, CA, (760) 337-4421; or the CPUC's consultants: Aspen Environmental Group, 235 Montgomery Street #935, San Francisco, CA 94104, reachable by phone or fax at (866) 711-3106 or by e-mail at sunrise@aspeneg.com.

FOR FURTHER INFORMATION CONTACT: Information concerning the Final EIS/Proposed Plan Amendment may be obtained from Lynda Kastoll, Project Manager for the BLM, at (760) 337-4421, or e-mail at lkastoll@ca.blm.gov. Information concerning the EIR process may be obtained from Billie Blanchard, Project Manager for the CPUC, at (415) 703-2068, or on the CPUC Internet Web site at http://www.cpuc.ca.gov/Environment/info/aspen/sunrise/sunrise.htm.

SUPPLEMENTARY INFORMATION: SDG&E proposes to construct a new 91-mile, 500-kilovolt (kV) electric transmission line from Imperial Valley Substation (in Imperial County, near the City of El Centro) to a new Central East Substation (in central San Diego County, southwest of the intersection of County Highways S22 and S2) and a new 59-mile 230-kV line that includes both overhead and underground segments from the new Central East Substation to SDG&E's existing Peñasquitos Substation (in the City of San Diego). Portions of the proposed 500-kV line transmission line would traverse approximately 35 miles of Federal lands managed by the BLM within the California Desert Conservation Area in Imperial County, and approximately one mile in San Diego County. The remainder of the proposed project would cross lands owned by various entities including the State of California, local governments, and private parties.

The proposed transmission lines would utilize structures ranging in height from 120 to 170 feet, spaced approximately 700 to 1,600 feet apart, and would occupy rights-of-way of approximately 60 to 300 feet in width (subject to local conditions and restrictions).

Two public scoping periods followed the CPUC's publication of the Notice of Preparation of an EIR/EIS on September 15, 2006, and the BLM's publication of the Notice of Intent in the Federal Register on August 31, 2006. Consultation with agencies and tribal governments also continued after the formal scoping ended. In addition, notices regarding alternatives to be evaluated in the EIR/EIS were mailed to interested parties in March and May of 2007.

In January 2008, a Draft Environmental Impact Report/Environmental Impact Statement (DEIR/EIS) was issued jointly by the CPUC and BLM. The DEIR/EIS provided information about the environmental setting and impacts of the Proposed Project and 27 alternatives, as well as connected actions and future foreseeable projects. The Environmental Protection Agency published a Notice of Availability for the DEIR/EIS/Plan Amendment on January 11, 2008, initiating a 90-day comment period. Copies of the document were sent to affected Tribes as well as Federal, State and local government agencies. The document was posted on the CPUC Web site and a link was provided on the BLM Web site. News releases were published in local newspapers announcing the availability of the document, and approximately 14,000 notices were mailed to known interested parties. In late January 2008, nine informational workshops were held throughout San Diego and Imperial counties. In February and May 2008, CPUC conducted seven public participation hearings to receive comments on the DEIR/EIS and any other issues of concern related to the SDG&E application.

In July 2008, a Recirculated DEIR/Supplemental DEIS was issued by the CPUC and BLM that included three components: (1) New and revised analysis of the La Rumorosa Wind Project in Mexico and associated transmission/substation upgrades in the U.S.; (2) description and analysis of several transmission line route revisions; (3) revision of components of the Environmentally Superior Alternatives for northern and southern transmission line routes. A 45-day public comment period on the Recirculated/Supplemental Draft ended on August 25, 2008.

The proposed project, as well as other transmission alternatives, would require an amendment to one of the following BLM land use plans: the California Desert Conservation Area Plan (as amended) and the Eastern San Diego County Planning Unit Management Framework Plan because the route alignments would deviate from BLM designated utility corridors in several areas.

Based on a careful review of the resource data in the FEIR/EIS, full consideration of all public comments received, and a determination of which alternative best meets the agency project objectives, the BLM's Agency Preferred Alternative is the Final Environmentally Superior Southern Route (SWPL) Alternative. This alternative is described in the FEIR/EIS at Section ES.2.4 and depicted on Figure ES-4, including the BCD/BCD South Option Reroute, except and unless easements can be secured by SDG&E for the Interstate 8 Alternative between McCain Valley Road and the eastern end of the Modified Route D Alternative in place of the BCD/BCD South Option Reroute. In either configuration (the Interstate 8/Modified Route D or the Interstate 8/BCD/BCD South), the BLM's Agency Preferred alternative would achieve all three CPUC and BLM project objectives and most SDG&E project objectives.

The Interstate 8 Alternative west of McCain Valley Road is shorter in length, located in a less remote area, and would result in fewer significant, unmitigable impacts to biological resources, recreation, and visual resources than would the BCD/BCD South Option Reroute. Because SDG&E may not be able to secure easements for the Interstate 8 Alternative between McCain Valley Road and the eastern end of the Modified Route D Alternative, BLM proposes to amend the existing land use plan for Eastern San Diego County to provide a one-time exception to the plan requirement that new gas, electric, and water transmission facilities and cables for interstate communication be allowed only within designated corridors. The proposed plan amendment would apply to the public lands along the BCD/BCD South Option Reroute portion of the Final Environmentally Superior Southern Route (SWPL) Alternative. As described in DEIR/EIS Section A.6.2, the BLM's decision regarding the approval of any route and plan amendment would be made in a Record of Decision to be issued in late 2008 or early 2009.

As noted above, instructions for filing a protest with the Director of the BLM regarding the proposed land use plan amendment may be found at 43 CFR 1610.5. Protests are specific to the proposed land use plan amendment. E-mail and faxed protests will not be accepted as valid protests unless the protesting party also provides the original letter by either regular mail or overnight delivery service postmarked by the close of the protest period. Under these conditions, the BLM will consider the e-mail or faxed protest as an advance copy and it will receive full consideration. If you wish to provide the BLM with such advance notification, please direct faxed protests to the attention of the BLM protest coordinator at 202-208-5010, and e-mails to Brenda_Hudgens-Williams@blm.gov. All protests, including the follow-up letter (if e-mailing or faxing) must be in writing and mailed to the following address: Regular Mail: Director (210), Attention: Brenda Williams, P.O. Box 66538, Washington, DC 20035. Overnight Delivery Service: Director (210), Attention: Brenda Williams, 1620 L Street, NW., Suite 1075, Washington, DC 20036.

Before including your phone number, e-mail address, or other personal identifying information in your protest, you should be aware that your entire protest—including your personal identifying information—may be made publicly available at any time. While you can ask us in your protest to withhold your personal identifying information from public review, we cannot guarantee that we will be able to do so.

A copy of the FEIR/EIS has been sent to affected Tribes as well as Federal, State and local government agencies and interested parties.

Thomas Pogacnik,
Acting Deputy State Director, Natural Resources (CA-930), Bureau of Land Manager.

[FR Doc. E8-25154 Filed 10-21-08; 8:45 am]

BILLING CODE 4310-40-P